DEPARTMENT OF THE INTERIOR

Bureau of Reclamation

Fish and Wildlife Service

[INT-DES-01-44]

Imperial Irrigation District Water Conservation and Transfer Project, Draft Habitat Conservation Plan, California

AGENCIES: Bureau of Reclamation and Fish and Wildlife Service, Interior.

ACTION: Notice of availability of a draft environmental impact report/environmental impact statement (EIR/EIS).

SUMMARY: The Bureau of Reclamation (Reclamation) has issued a draft EIR/EIS on Imperial Irrigation District's (IID) proposed project that would conserve and transfer the right to use up to 300,000 acre-feet per year of Colorado River water, which IID is otherwise entitled to divert for use within IID's water service area in Imperial County, California. The conserved water would be transferred to San Diego County Water Authority (SDCWA), Coachella Valley Water District (CVWD) and/or The Metropolitan Water District (MWD). These transfers, which are to remain in effect for up to 75 years, would facilitate efforts to reduce California's diversion of Colorado River water in normal years to its annual 4.4 million acre-feet apportionment. Approval of the Secretary of the Interior (Secretary) will be required to change the point of delivery for the transferred water. In addition, IID has applied for a permit with Fish and Wildlife Service (FWS) pursuant to section 10(a)(1)(B) of the Endangered Species Act (ESA). This Section 10 permit would authorize the incidental take of covered species associated with the proposed water conservation and transfer project, as well as IID's ongoing operation and maintenance activities. As a condition of applying for a Section 10 permit, IID has developed a Habitat Conservation Plan (HCP) in consultation with FWS and the California Department of Fish and Game, which is appended to the draft EIR/EIS. The HCP would provide measures to minimize and mitigate the effects of the proposed taking of listed and sensitive species and the habitats upon which they depend.

Both Reclamation's approval of the change in point of delivery of Colorado River water and FWS' approval of the HCP and issuance of a Section 10 permit are Federal actions that require compliance with the National Environmental Policy Act (NEPA) of 1969, as amended. This draft EIR/EIS has been prepared pursuant to NEPA and the Council on Environmental Quality's Regulations for Implementing the Procedural Provisions of NEPA, and is being issued by Reclamation as the lead agency. The FWS is a cooperating agency. Both agencies intend to use the EIR/EIS document to issue separate Records of Decision. This document also serves as IID's compliance with the California Environmental Quality Act (CEQA), and is therefore a combined draft EIR/EIS. Public hearings will be held to receive written or verbal comments on the draft EIR/EIS. Notice of hearings will appear at a future date.

DATES: A 90-day public review and comment period begins with the filing of the draft EIR/EIS with the Environmental Protection Agency. Written comments must be received no later than April 12, 2002 (see ADDRESSES below).

ADDRESSES: Send written comments to one of the following: Mr. Bruce Ellis, Chief, Environmental Resources Management Division, Bureau of Reclamation, Phoenix Area Office (PXAO-1500), PO Box 81169, Phoenix, AZ 85069-1169; fax number (602) 216-4006; Mr. Elston Grubaugh, Manager, Resource Planning and Management Department, Imperial Irrigation District, PO Box 937, Imperial, CA 92251, fax number (760) 339-9009.

A read-only downloadable copy of the draft EIR/EIS document is available on the Internet at http://www.is.ch2m.com/iidweb. A copy of the draft EIR/EIS is also available upon request from Ms. Janice Kjesbo, Bureau of Reclamation, Phoenix Area Office (PXAO-1500), PO Box 81169, Phoenix, AZ 85069-1169, telephone (602) 216-3864, faxogram (602) 216-4006. A copy of the draft EIR/EIS is also available for public inspection and review at the locations listed under Supplementary Information below.

FOR FURTHER INFORMATION CONTACT: Questions regarding the draft EIS should be directed to Mr. Ellis at the address provided above, or telephone (602) 216-3854. For information related to the HCP, please contact Ms. Carol Roberts at the Carlsbad FWS office, telephone (760) 431-9440.

SUPPLEMENTARY INFORMATION: The terms of IID's water conservation and transfer transactions are set forth in the “Agreement for Transfer of Conserved Water” (IID/SDCWA Transfer Agreement), executed by IID and SDCWA in 1998 (as amended), and a proposed Quantification Settlement Agreement (QSA) to be executed by IID, CVWD, and MWD. The QSA establishes a framework of conservation measures and water transfers within southern California for up to 75 years, and would facilitate California's efforts to reduce its diversions of Colorado River water in normal years to its annual 4.4 million acre-feet apportionment, thus benefiting the entire Colorado River Basin. It would authorize the transfer of up to 200,000 acre-feet to SDCWA pursuant to the IID/SDCWA Transfer Agreement, and provide for the transfer of up to 100,000 acre-feet of water conserved by IID to CVWD and/or MWD.

The Secretary of the Interior (Secretary), pursuant to the Boulder Canyon Project Act of 1928 and Arizona v. California 1964 Supreme Court Decree (376 U.S. 340), proposes to take Federal actions necessary to support California's efforts. One of these actions is execution of an Implementation Agreement (IA) that would commit the Secretary to make Colorado River water deliveries to facilitate implementation of the QSA. The Secretary's execution of the IA is the subject of Reclamation's IA, Inadvertent Overrun and Payback Policy, and Related Federal Actions Draft EIS (INT-DES 01-44), which was recently distributed for public review and comment (67 FR 1988). Impacts to the Colorado River, that would result from the change in point of delivery of IID's conservation and transfer of up to 300,000 acre-feet of Colorado River water, are incorporated into an analysis of all changes in the point of delivery proposed in the IA and included in the QSA.

The draft EIR/EIS identifies and summarizes the impacts to the Colorado River associated with IID's proposed change in point of delivery of up to 300,000 acre-feet of Colorado River water, under either the IID/SDCWA Transfer Agreement or QSA. It also describes the anticipated impacts associated with the water conservation measures to be undertaken. IID's proposed methods of conserving the water to be transferred, and use of that water, are also described in the draft EIR/EIS.

IID has applied for a Section 10 permit under which FWS would authorize the incidental take of a number of federally listed species, as well as other sensitive species that are being considered for listing, within the IID water service area, the right-of-way of the All American Canal, and the Salton Sea. The draft EIR/EIS also includes a description of impacts that are anticipated to occur from IID's implementation of an HCP for affected species, once it is approved by FWS.

Copies of the draft EIR/EIS are available for public inspection and review at the following locations:

• Department of the Interior, Natural Resources Library, 1849 C St., NW., Washington, DC 20240.

• Bureau of Reclamation, Denver Office Library, Building 67, Room 167, Denver Federal Center, 6th and Kipling, Denver, CO 80225.

• Bureau of Reclamation, Lower Colorado Regional Office, Nevada Highway and Park St., Boulder City, NV 89006.

• Bureau of Reclamation, Southern California Area Office, 27710 Jefferson Ave., Suite 201, Temecula, CA 92590-2628.

• Bureau of Reclamation, Yuma Area Office, 7301 Calle Agua Salada, Yuma, AZ 85364-9763.

• Lake Havasu City Library, 1787 McCulloch Blvd. North, Lake Havasu City, AZ 86403.

• Mohave County Library, 1170 Hancock Rd., Bullhead City, AZ 86442.

• Parker Public Library, 1001 S. Navajo Ave., Parker, AZ 85344.

• Yuma County Library, 350 S. 3rd Ave., Yuma, AZ 85364.

• Los Angeles Central Library, 630 W. 5th St., Los Angeles, CA 90071.

• Palo Verde Valley Library, 125 W. Chanslor Way, Blythe, CA 92225.

• San Bernardino County Library, 104 W. 4th St., San Bernardino, CA 92401.

• San Diego Central Library, 820 E St., San Diego, CA 92101.

• IID Offices, 1284 Broadway, El Centro, CA 92243.

• IID Offices, 81-600 Avenue 58, La Quinta, CA 92253.

• El Centro Public Library, 539 State Street, El Centro, CA 92243.

• Brawley Public Library, 400 Main Street, Brawley, CA 92227.

Written comments received by Reclamation or IID become part of the public record associated with this action. Accordingly, Reclamation makes these comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. However, we will not consider anonymous comments. We will make all submissions from organizations or businesses, and from individuals identifying themselves as representatives or officials of organizations or businesses, available for public disclosure in their entirety.

Dated: January 8, 2002.
Terence Martin,
Acting Director, Office of Environmental Policy and Compliance.

[FR Doc. 02-1888 Filed 1-24-02; 8:45 am]

BILLING CODE 4310-MN-P